DEPARTMENT OF THE INTERIOR

Bureau of Land Management

[LLESMO300. L51100000.GA0000.LVEMM12M1670. 12X]

Notice of Federal Competitive Coal Lease Sale, Ohio (Coal Lease Application OHES 057390)

AGENCY: Bureau of Land Management, Interior.

ACTION: Notice of coal lease sale.

SUMMARY: Notice is hereby given that the Bureau of Land Management (BLM) Eastern States Office is offering coal resources, in lands described below, in Perry and Morgan Counties, Ohio, for competitive sale, by sealed bid, in accordance with the provisions of the Mineral Leasing Act of 1920, as amended.

DATES: The BLM will hold the lease sale at 1:00 p.m., Eastern Time (ET) on September 25, 2019. The BLM Eastern States Office must receive sealed bids on or before 10:00 a.m. ET on September 25, 2019.

ADDRESSES: The BLM will hold the lease sale at the BLM Eastern States State Office, Suite 950, 20 M Street SE, Suite 950, Washington, DC 20003. Bidders must submit sealed bids to the Cashier, BLM Eastern States State Office, at this same address.

FOR FURTHER INFORMATION CONTACT: Sabry Hanna, 202-912-7720 or shanna@blm.gov. Persons who use telecommunication devices for the deaf (TDD) may call the Federal Relay Service (FRS) at 1-800-877-8339 to contact the above individual during normal business hours. The FRS is available 24 hours a day, 7 days a week, to leave a message or question. You will receive a reply during normal business hours.

SUPPLEMENTARY INFORMATION: The BLM is holding this sale in response to a Lease By Application (LBA) filed by CCU Coal and Construction, LLC (formerly the Westmoreland Coal Company). The Federal coal reserves to be offered are located in the following-described lands:

Parcel #1 Tract X32,

Section 12, T. 12 N, R. 14 W, Ohio River Survey Meridian, Ohio.

Containing 6.00 acres.

Parcel #2 Tract X76,

Section 24, T. 12 N, R. 14 W, Ohio River Survey Meridian, Ohio.

Containing 10.00 acres.

Parcel #3 Tract X41,

Section 14, T. 12 N, R. 14 W, Ohio River Survey Meridian, Ohio.

Containing 80.00 acres.

Parcel #4 Tract X37,

Section 13, T. 12 N, R. 14 W, Ohio River Survey Meridian, Ohio.

Containing 109.25 acres.

Parcel #5 Tract X38,

Section 13 and Tract X53, Section 24, T.12 N, R. 14 W, Ohio River Survey Meridian, Ohio.

Containing 80.00 acres.

Parcel #6 Tract X35,

Section 18 and Tract X38, Section 19, T.8 N, R. 13 W, Ohio River Survey Meridian, Ohio.

Containing 60.94 acres

Parcel #7 Tract X81,

Section 24, T. 12 N, R. 14 W, Ohio River Survey Meridian, Ohio.

Containing 86.25 acres.

The area is comprised of 7 tracts totaling 432.44 acres located in Morgan and Perry Counties, Ohio, containing an estimated 1.4 million tons of sub-surface mineable Federal coal reserve. The tracts contain one mineable coal bed, the Middle Kittanning No. 6. The Middle Kittanning No. 6 averages approximately 4.33 feet in thickness. The coal quality for the Middle Kittanning No. 6 averages 12,077.5 Btu/lb, 2.67 percent moisture, 14.08 percent ash, 34.49 percent volatile matter, 47.4 percent fixed carbon, and 2.65 percent Sulphur (Figures do not equal 100 percent due to rounding).

The BLM will lease the tract to the qualified bidder of the highest cash amount, provided, that the high bid meets or exceeds the BLM's estimate of the Fair Market Value (FMV) of the tract. The minimum bid established by regulation is $100 per acre or fraction thereof. The minimum bid is not intended to represent FMV. The authorized officer will determine if the bid meets FMV after the sale.

Send sealed bids by certified mail, return receipt requested, or hand deliver them to the Cashier, BLM Eastern States State Office, at the address provided in the ADDRESSES section and in an envelope clearly marked, “Sealed Bid for OHES-57390 Coal Sale—Not to be opened before 1:00 p.m., September 25, 2019.” The cashier will issue a receipt for each hand-delivered bid. The BLM will not consider bids received after 10:00 a.m. on the day of the sale. If the BLM receives identical high bids, the BLM will request the tying high bidders to submit follow-up sealed bids until the BLM receives a high bid. The tying high bidders must submit all tie-breaking sealed bids within 15 minutes following the sale official's announcement, at the sale, that the BLM has received identical high bids. Prior to lease issuance, the high bidder, if other than the applicant, must pay to the BLM the cost recovery fees in the amount of $26,700, in addition to all processing costs that the BLM incurs after the date of this sale notice (43 CFR 3473.2).

A lease issued as a result of this offering will provide for payment of an annual rental of $3 per acre, or fraction thereof, and a royalty payable to the United States of 12.5 percent of the value of coal mined by surface methods and 8 percent of the value of the coal mined by underground methods. We have included bidding instructions for the tract offered and the terms and conditions of the proposed coal lease in the Detailed Statement of Lease Sale. Copies of the statement and the proposed coal lease are available at the Eastern States State Office. Casefile OHES-57390 is also available for public inspection at the Eastern States State Office.

(Authority: 43 CFR 3422.3-2)

Karen E. Mouritsen,
State Director, Eastern States.

[FR Doc. 2019-17794 Filed 8-16-19; 8:45 am]

BILLING CODE 4310-GJ-P